DEPARTMENT OF DEFENSE

Department of the Army

[Docket ID USA-2015-HQ-0043]

Privacy Act of 1974; System of Records

AGENCY: Department of the Army, DoD.

ACTION: Notice to alter a system of records.

SUMMARY: The Department of the Army proposes to alter system of records notice, A0027-40 CE, Corps of Engineers Case Management Information Files. This system allows the Corps of Engineers' legal offices to manage legal work and to identify and contact individuals involved in litigation, contract claims and appeals, procurement fraud, potentially responsible party negotiations under the Comprehensive Environmental Response Compensation and Liability Act; and patents and technology transfer, involving the Corps of Engineers.

DATES: Comments will be accepted on or before November 12, 2015. This proposed action will be effective on the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22315-3860 or by phone at 703-428-7499.

SUPPLEMENTARY INFORMATION: The Department of the Army systems of records notices subject to the Privacy Act of 1974 (5 U.S.C. 552a), as amended, have been published in the Federal Register and are available from the address in FOR FURTHER INFORMATION CONTACT or at the Defense Privacy and Civil Liberties Division Web site at http://dpcld.defense.gov/.

The proposed systems reports, as required by 5 U.S.C. 552a(r) of the Privacy Act, as amended, were submitted on July 17, 2015, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: October 7, 2015.
Aaron Siegel,
Alternate OSD Federal Register Liaison Officer, Department of Defense.

A0027-40 CE

System name:

Corps of Engineers Case Management Information Files (September 19, 1994, 59 FR 47843)

Changes:

* * * * *

System location:

Delete entry and replace with “U.S. Army Corps of Engineers Central Processing Center, 3909 Halls Ferry Road, Vicksburg, MS 39180-6199, with input and access locations at all Corps of Engineers' Counsel Offices. Official mailing addresses are published as an appendix to the Army's compilation of system of records notices or may be obtained from the system manager.”

* * * * *

Categories of records in the system:

Delete entry and replace with “Records relating to litigation, contract claims and appeals, procurement fraud, potentially responsible party negotiations under the Comprehensive Environmental Response Compensation and Liability Act and patents and technology transfer, involving the Corps of Engineers; including names, addresses and phone numbers of individuals; docket or contract number; office symbol; file number; case name; the forum name; title of action; date of action; type of action; category of action; status of the action; disposition of action; summaries of the action; action number; amount of award; project name and location; remedies or relief requested; milestones and suspense dates; title of invention; and royalty information.”

Authority for maintenance of the system:

Delete entry and replace with “5 U.S.C. 301, Departmental Regulations; 15 U.S.C. Chapter 1, Monopolies and Combinations in Restraint of Trade; 31 U.S.C. 3729 False Claims; and 42 U.S.C. 9601 et seq. (1980), Comprehensive Environmental Response, Compensation, and Liability Act.”

Purpose:

Delete entry and replace with “To allow the Corps of Engineers legal offices to manage legal work and to identify and contact individuals involved in litigation, contract claims and appeals, procurement fraud, potentially responsible party negotiations under the Comprehensive Environmental Response Compensation and Liability Act; and patents and technology transfer, involving the Corps of Engineers.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

Litigation, contract claims and appeals and procurement fraud records may be disclosed to Department of Justice and U.S. Attorney's offices for use in litigation. Most of this information is filed in the courts and is therefore a public record.

Names of companies or organizations, and their representatives, involved in potentially responsible party negotiations may be disclosed to the Environmental Protection Agency, Department of Justice, and the involved parties to facilitate potentially responsible party negotiations.

Patent records may be disclosed to The U.S. Patent and Trademark Office; Department of Commerce; appropriate authorities in foreign countries, for foreign patent filings; parties to a licensing arrangement for specific files involved; and contractors and government agencies, to conduct patent investigations and evaluations.

The DoD Blanket Routine Uses set forth at the beginning of the Army's compilation of systems of records notices may apply to this system. The complete list of DoD blanket routine uses can be found online at: http://dpcld.defense.gov/Privacy/SORNsIndex/BlanketRoutineUses.aspx.”

Policies and practices for storing, retrieving, accessing, retaining, and disposing of records in the system:

Storage:

Delete entry and replace with “Electronic storage media and paper records.”

Retrievability:

Delete entry and replace with “By individual's name, address and telephone number; in conjunction with the title of the action; forum name; docket or contract number; office symbol; file number; type of action; category of action; disposition of action; date of action and amount of award.”

Safeguards:

Delete entry and replace with “Electronic and paper records are maintained in controlled areas accessible only to authorized legal office personnel. Physical security differs from site to site, but the automated records are maintained in controlled areas accessible only by authorized personnel. Access to electronic records is restricted by use of common access cards (CACs) and is accessible only by users with an authorized account. The system and electronic backups are maintained in controlled facilities that employ physical restrictions and safeguards such as security guards, identification badges, key cards, and locks.”

* * * * *

System manager(s) and address:

Delete entry and replace with “Chief Counsel, U.S. Army Corps of Engineers, 441 G Street NW., Washington, DC 20314-1000.”

Notification procedure:

Delete entry and replace with “Individuals seeking to determine whether information about themselves is contained in this system should address written inquiries to the Chief Counsel, ATTN: CECC-ZB, U.S. Army Corps of Engineers, 441 G Street NW., Washington, DC 20314-1000.

Individuals must provide full name, current address and telephone number, category of record (litigation, contract claims and appeals, procurement fraud, potentially responsible party negotiations, patents or technology transfer) and signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).'”

Record access procedures:

Delete entry and replace with “Individuals seeking access to records about themselves contained in this system should address written inquiries to the Chief Counsel, U.S. Army Corps of Engineers, ATTN: CECC-ZB, 441 G Street NW., Washington, DC 20314-1000.

Individual must provide full name, current address and telephone number, category of record (litigation, contract claims and appeals, procurement fraud, potentially responsible party negotiations, patents or technology transfer) and signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).'”

* * * * *

Record source categories:

Delete entry and replace with “From documents provided by the individual, his/her attorney, court records, Army records, investigation reports, other Federal agencies, and state and local agencies.”

* * * * *

[FR Doc. 2015-25972 Filed 10-9-15; 8:45 am]

BILLING CODE 5001-06-P